POSTAL SERVICE

39 CFR Part 966

Rules of Procedure Before the Judicial Officer; Correction

AGENCY: Postal Service™.

ACTION: Final rule; technical correction.

SUMMARY: This updates the Judicial Office website address and corrects an error issued during a previous filing.

DATES: Effective August 16, 2024.

FOR FURTHER INFORMATION CONTACT: Staff Counsel Zahava Colicelli at (708) 812-1927.

SUPPLEMENTARY INFORMATION:

A. Background

The Judicial Officer Department recently issued a final rule revising its rules of practice with an updated internet address for its home page. This final rule is necessary to correct an error made in the previous filing.

B. Explanation of Changes

Amendment to 39 CFR Part 966

Section 966.3(j) is amended to update the internet address for the Judicial Officer website and contact information for the Recorder.

List of Subjects in 39 CFR Part 966

Administrative practice and procedure, Claims, Government employees, Wages.

Accordingly, the Postal Service amends 39 CFR part 966 as follows:

PART 966—[AMENDED]

1. The authority citation for part 966 continues to read as follows:

Authority: 31 U.S.C. 3716; 39 U.S.C. 204, 401, 2601.

2. In § 966.3, paragraph (j) is revised to read as follows:

§ 966.3 Definitions.

* * * * *

(j) Recorder refers to the Recorder, Judicial Officer Department, United States Postal Service, 2101 Wilson Boulevard, Suite 600, Arlington, VA 22201-3078. The recorder's telephone number is (703) 812-1900, and the Judicial Officer's website is https://about.usps.com/who/judicial/. The fax number is (703) 812-1901.

* * * * *

Colleen Hibbert-Kapler,
Attorney, Ethics and Legal Compliance.

[FR Doc. 2024-18440 Filed 8-15-24; 8:45 am]

BILLING CODE 7710-12-P